DEPARTMENT OF COMMERCE

Bureau of Industry and Security

Assessment of Foreign Defense Procurement Practices

ACTION: Proposed collection; request for comments.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506(c)(2)(A)).

DATES: Written comments must be submitted October 4, 2004.

ADDRESSES: Direct all written comments to Diana Hynek, DOC Paperwork Clearance Officer, (202) 482-0266, Department of Commerce, Room 6625, 14th and Constitution Avenue, NW., Washington, DC 20230.

FOR FURTHER INFORMATION CONTACT: Requests for additional information or copies of the information collection instrument(s) and instructions should be directed to George Ipock, BIS ICB Liaison, (202) 482-5469, Department of Commerce, Room 6622, 14th & Constitution Avenue, NW., Washington, DC 20230.

SUPPLEMENTARY INFORMATION:

I. Abstract

The Defense Production Act Amendments of 1992, Section 123 (Pub. L. 102558), which amended Section 309 or the Defense Production Act of 1950, requires United States firms to furnish information for a variety of defense industrial base studies and reports undertaken by the Bureau of Industry and Security (BIS) within the U.S. Department of Commerce. The information to be collected regarding foreign defense procurement practices will be used by the Bureau of Industry and Security to assess the defense procurement policies of allied nations in an effort to ensure a competitive environment for U.S. defense firms in the global defense market. This assessment is within the scope of BIS's core functions to develop, promote, and implement policies that ensure a strong technologically superior U.S. defense industrial base. To ensure that U.S. industry has the capacity to meet current and future national security, economic security, and homeland security requirements, BIS conducts analyses of defense sectors important to the national defense, promotes U.S. defense exports, and monitors U.S. defense industry access to foreign markets.

II. Method of Collection

Electronic Survey to be sent to 150 U.S. suppliers to the U.S. Department of Defense. The information will be compiled into a report for use by U.S. Government officials.

III. Data

OMB Number: None.

Form Number: None.

Type of Review: New Collection.

Affected Public: Individuals, businesses or other for-profit and not-for-profit institutions.

Estimated Number of Respondents: 150.

Estimated Time Per Response: 3 hours per response.

Estimated Total Annual Burden Hours: 450.

Estimated Total Annual Cost: No start-up costs or capital expenditures.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they will also become a matter of public record.

Dated: July 30, 2004.
Madeleine Clayton,
Management Analyst, Office of the Chief Information Officer.

[FR Doc. 04-17802 Filed 8-3-04; 8:45 am]

BILLING CODE 3510-JT-P